DEPARTMENT OF ENERGY

Proposed Agency Information Collection Extension

AGENCY: U.S. Department of Energy.

ACTION: Notice and request for comments.

SUMMARY: The Department of Energy (DOE), pursuant to the Paperwork Reduction Act of 1995, intends to extend for three years an information collection request with the Office of Management and Budget (OMB). Comments are invited on: (a) Whether the extended collection of information is necessary for the proper performance of the functions of the agency; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before September 6, 2016. If you anticipate difficulty in submitting comments within that period, contact the person listed in ADDRESSES as soon as possible.

ADDRESSES: Written comments may be sent to Mark Westergard, U.S. Department of Energy, LPO-70, Room 4B-160, 1000 Independence Avenue SW., Washington, DC 20585 or by fax at 202-287-5816.

FOR FURTHER INFORMATION CONTACT: Requests for additional information or copies of the information collection instrument and instructions should be directed to Mark S. Westergard, LPO.PaperworkReductionAct.Comments@hq.doe.gov.

SUPPLEMENTARY INFORMATION: This information collection request contains: (1) OMB No.: 1910-5134; (2) Information Collection Request Title: 10 CFR part 609—Loan Guarantees for Projects that Employ Innovative Technologies; (3) Type of Request: Extension (4) Purpose: This information collection package covers collection of information necessary to evaluate applications for loan guarantees submitted under Title XVII of the Energy Policy Act of 2005, as amended, 42 U.S.C. 16511-16516. Applications for loan guarantees submitted to DOE in response to a solicitation must contain certain information. This information will be used to analyze whether a project is eligible for a loan guarantee and to evaluate the application under criteria specified in 10 CFR part 609. The collection of this information is critical to ensure that the government has sufficient information to determine whether applicants meet the eligibility requirements to qualify for a DOE loan guarantee and to provide DOE with sufficient information to evaluate an applicant's project using the criteria specified in 10 CFR part 609; (5) Annual Estimated Number of Respondents: 100 Applications; (6) Annual Estimated Number of Total Responses: It is estimated that the total number of annual responses will not exceed 100; (7) Annual Estimated Number of Burden Hours: 13,000 hours, most of which is likely to be time committed by firms that seek debt and/or equity financing for their projects, regardless of their intent to apply for a DOE loan guarantee; (8) Annual Estimated Reporting and Recordkeeping Cost Burden: It is estimated that the annual estimated reporting and recordkeeping cost burden for applicants will not exceed $25,000 per annum.

Authority: Title XVII of the Energy Policy Act of 2005 42 U.S.C. 16511-16516 authorizes the collection of information.

Issued in Washington, DC, on June 29, 2016.
Mark A. McCall,
Executive Director, Department of Energy Loan Programs Office.

[FR Doc. 2016-15934 Filed 7-5-16; 8:45 am]

BILLING CODE 6450-01-P